UNITED STATES POSTAL SERVICE BOARD OF GOVERNORS

Sunshine Act Meeting

TIMES AND DATES: 10 a.m., Monday, May 7, 2001; 8:30 a.m., Tuesday, May 8, 2001; and 9:30 a.m., Tuesday, May 8, 2001.

PLACE: Washington, DC., at U.S. Postal Service Headquarters, 475 L'Enfant Plaza, SW., in the Benjamin Franklin Room.

STATUS: May 7 (Closed); May 8-8:30 a.m. (Open) 9:30 a.m. (Closed).

MATTERS TO BE CONSIDERED:

Monday, May 7-10:00 a.m. (Closed).

1. Financial Performance.

2. Fiscal Year 2001 EVA Variable Pay Program.

3. FedEx Alliance.

4. Postal Rate Commission Opinion and Recommended Decision on Further Reconsideration in Docket No. R2000-1, Omnibus Rate Case.

5. Rate Case Briefing.

6. Personnel Matters.

7. Compensation Issues.

Tuesday, May 8-8:30 a.m. (Open)

1. Minutes of the Previous Meetings, April 2-3, and April 13, 2001.

2. Remarks of the Postmaster General/Chief Executive Officer.

3. Audit and Finance Committee Charter.

4. Fiscal Year 2002 Appropriation Request.

5. Borrowing Resolution.

6. Capital Investment.

a. Letter Recognition Enhancement Program.

7. Tentative Agenda for the June 4-5, 2001, meeting in Washington, DC.

Tuesday, May 8-9:30 a.m. (Closed)

1. Continuation of Monday's Closed Agenda.

2. Strategic Planning/Postal Reform.

CONTACT PERSON FOR MORE INFORMATION: David G. Hunter, Secretary of the Board, U.S. Postal Service, 475 L'Enfant Plaza, SW., Washington, DC 20260-1000. Telephone (202) 268-4800.

David G. Hunter,
Secretary.

[FR Doc. 01-10678 Filed 4-25-01; 2:17 am]

BILLING CODE 7710-12-M